DEPARTMENT OF DEFENSE

GENERAL SERVICES ADMINISTRATION

NATIONAL AERONAUTICS AND SPACE ADMINISTRATION

48 CFR Parts 2, 4, 9, 12, 19, 52, and 53

[FAC 2005-91; FAR Case 2015-022; Item V; Docket No. 2015-0022, Sequence No. 1]

RIN 9000-AN00

Federal Acquisition Regulation; Unique Identification of Entities Receiving Federal Awards

Correction

In rule document 2016-23198 beginning on page 67736 in the issue of September 30, 2016, make the following correction:

52.204-7 [Corrected]

On page 67739, in the second column, the provision heading which reads “System for Award Management ” should read “System for Award Management (Oct 2016)”.

[FR Doc. C1-2016-23198 Filed 10-14-16; 8:45 am]

BILLING CODE 1301-00-D